DEPARTMENT OF ENERGY

Federal Energy Regulatory Commission

[Docket Nos. EL05-35-000]

Pacific Gas and Electric Company; Notice of Initiation of Proceeding and Refund Effective Date

December 14, 2004.

On December 13, 2004, the Commission issued an order in Docket Nos. ER05-82-000, EL05-35-000, ER03-409-000 and ER03-666-000. The Commission's order institutes a proceeding in Docket No. EL05-35-000 under section 206 of the Federal Power Act with respect to the methodology used to allocate reliability services costs to standby service. 109 FERC ¶61,266 (2004).

The refund effective date in Docket No. EL05-35-000, established pursuant to section 206(b) of the Federal Power Act will be 60 days following publication of this notice in the Federal Register.

Magalie R. Salas,
Secretary.

[FR Doc. E5-35 Filed 1-7-05; 8:45 am]

BILLING CODE 6717-01-P